DEPARTMENT OF ENERGY

Federal Energy Regulatory Commission

[Docket No. CP01-45-000]

Colorado Interstate Gas Company; Notice of Application

December 13, 2000.

On December 4, 2000, Colorado Interstate Gas Company (CIG), P.O. Box 1087, Colorado Springs, Colorado 80944, filed in Docket No. CP01-45-000 an application pursuant to Section 7 of the Natural Gas Act (NGA) and the Commission's Rules and Regulations for a certificate of public convenience and necessity authorizing CIG to construct, own, operate, and maintain facilities in order to provide new transportation capacity to transport fuel for electric generation and for local gas distribution system supply, all as more fully set forth in the application which is on file with the Commission and open to public inspection. The filing may be viewed at http://www.ferc.fed.us/online/rims.htm (call 202-208-2222 for assistance).

Specifically, Tuscarora proposes to construct and operate:

• Approximately 35.1 miles of 24-inch diameter pipeline and appurtenant facilities which will begin at CIG's existing Ault Meter Station in Section 4, Township 7 North, Range 66 West, Weld County, Colorado and extend southward and parallel with CIG's existing pipeline, terminating at the Fort Lupton Compressor Station in Section 34, Township 2 North, Range 66 West, Weld County, Colorado.

• Two new 2,225 horsepower (ISO rated) natural gas fired reciprocating compressor units and appurtenant facilities at the Fort Lupton Compressor Station in Section 34, Township 2 North, Range 66 West, Weld County, Colorado.

• Approximately 84 miles of 20-inch diameter pipeline and appurtenant facilities which will begin at the Watkins Station in Section 31 township 3 South, Range 65 West, Weld County, Colorado and extend southward and parallel with CIG's existing Valley Line to CIG's Nixon Lateral in Section 25, Township 16 South, Range 65 West, El Paso County Colorado.

CIG estimates that the proposed facilities will cost $72,138,900 and CIG proposes to roll-in these costs into its existing rates. CIG has entered into firm contracts and precedent agreements for 282,000 dth per day of capacity to be created by the proposed expansion.

Questions regarding the details of this proposed project should be directed to James R. West, Manager, Certificates, Colorado Interstate Gas Company, P.O. Box 1087, Colorado Springs, Colorado 80944, call (719) 520-4613.

There are two ways to become involved in the Commission's review of this project. First, any person wishing to obtain legal status by becoming a party to the proceedings for this project should, on or before January 3, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the commission will issue another notice describing that process. At the end of the Commission's review process, a final Commission order approving or denying a certificate will be issued.

David P. Boergers,
Secretary.

[FR Doc. 00-32265 Filed 12-18-00; 8:45 am]

BILLING CODE 6717-01-M